ENVIRONMENTAL PROTECTION AGENCY

[FRL-7153-1]

Agency Information Collection Activities: Submission for OMB Review; Comment Request; NESHAP for Marine Vessel Loading Operations

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval; National Emission Standards for Hazardous Air Pollutants (NESHAP) for Marine Vessel Loading Operations (Subpart Y); EPA ICR# 1679.04; OMB Control Number 2060-0289, expiration date February 28, 2002. The ICR describes the nature of the information collection and its expected burden and cost; where appropriate, it includes the actual data collection instrument.

DATES: Comments must be submitted on or before April 4, 2002.

ADDRESSES: Send comments, referencing EPA ICR No.1679.04 and OMB Control No. 2060-00289, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by e-mail at Auby.susan@epamail.epa.gov, or download off the Internet at http://www.epa.gov/icr and refer to EPA ICR No.1679.04. For technical questions about the ICR contact Virginia Lathrop by phone at (202) 564-7057, by E-mail at lathrop.virginia@epa.gov.

SUPPLEMENTARY INFORMATION: Title: NESHAP for Marine Vessel Loading Operations (Subpart Y); ICR No.1679.04; OMB Control Number 2060-0289, expiration date February 28, 2002. This is a request for extension of a currently approved collection.

Abstract: This collection is for record keeping and periodic reporting information to EPA Regional Offices and delegated states. The information concerns compliance information for the emissions relating to loading of marine tank vessels with petroleum and gasoline. Delegated states and EPA Regional Offices use the data to determine compliance with the NESHAP rule. The purpose is to assure compliance with emission requirements in 40 CFR part 63, subpart Y. In general, records will be stored on site and shown to inspectors when requested. These will be hard copy records for the most part. Other information for periodic reports are sent to the state or to the Regional Office. It will cost 105 facilities, a total of 28,131 hours each year at a total cost of $1,535,817.

Under sections 40 CFR part 63, subpart Y, information collection is mandatory, not voluntary. All information submitted to EPA for which a claim of confidentiality is made will be safeguarded according to the Agency policies set forth in 40 CFR part 2, subpart B—Confidentiality of Business Information.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on August 17, 2001 (66 FR 43253); no comments were received.

Burden Statement: The annual public reporting and recordkeeping burden for this collection of information is estimated to average 32 hours to prepare excess emissions. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previous applicable instructions and requirements; train personnel to be able to respond to a collection of information; search data sources; complete and review the collection of information; and transmit or otherwise disclose the information.

Respondents/Affected Entities: Owners and Operators of Marine Tank Vessel Loading Operations.

Estimated Number of Respondents: 105.

Frequency of Response: On occasion.

Estimated Total Annual Hour Burden: 28,131 hours per year.

Estimated Total Annualized Capital, O&M Cost Burden: 0.

Send comments on the Agency's need for this information, the accuracy of the provided burden estimates, and any suggested methods for minimizing respondent burden, including through the use of automated collection techniques to the addresses listed above. Please refer to EPA ICR No.1679.04 and OMB Control No. 2060-0289 in any correspondence.

Dated: February 25, 2002.
Oscar Morales,
Director, Collection Strategies Division.

[FR Doc. 02-5184 Filed 3-4-02; 8:45 am]

BILLING CODE 6560-50-P